ENVIRONMENTAL PROTECTION AGENCY

[EPA-HQ-OPA-2007-0584; FRL-9999-51-OLEM]

Proposed Information Collection Request; Comment Request; Oil Pollution Prevention; Spill Prevention, Control, and Countermeasure (SPCC) Plans

AGENCY: Environmental Protection Agency (EPA).

ACTION: Notice.

SUMMARY: The Environmental Protection Agency is planning to submit an information collection request (ICR), “Spill Prevention, Control, and Countermeasure (SPCC) Plans” (EPA ICR No. 0328.18, OMB Control No. 2050-0021) to the Office of Management and Budget (OMB) for review and approval in accordance with the Paperwork Reduction Act. Before doing so, EPA is soliciting public comments on specific aspects of the proposed information collection as described below. This is a proposed extension of the ICR, which is currently approved through May 31, 2020. An Agency may not conduct or sponsor and a person is not required to respond to a collection of information unless it displays a currently valid OMB control number.

DATES: Comments must be submitted on or before November 12, 2019.

ADDRESSES: Submit your comments, referencing Docket ID No. EPA-HQ-OPA-2007-0584, referencing the Docket ID numbers provided for each item in the text, online using www.regulations.gov (our preferred method), or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Wendy Hoffman, Regulations Implementation Division, Office of Emergency Management, Mail Code 5104A, Environmental Protection Agency, 1200 Pennsylvania Ave. NW, Washington, DC 20460; telephone number: 202-564-8794; fax number: (202) 564-2625; email address: hoffman.wendy@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The authority for EPA's oil pollution prevention requirements is derived from section 311(j)(1)(C) of the Clean Water Act, as amended by the Oil Pollution Act of 1990. EPA's regulation is codified at 40 CFR part 112. An SPCC Plan will help an owner or operator identify the necessary procedures, equipment, and resources to prevent an oil spill and to respond to an oil spill in a timely manner. If implemented effectively, the SPCC Plan is expected to prevent oil spills and reduce the impact and severity of oil spills. Although the owner or operator is the primary data user, EPA may also require the owner or operator to submit data to the Agency in certain situations to ensure facilities comply with the SPCC regulation and to help allocate response resources. State and local governments may use the data, which are not generally available elsewhere and can assist local emergency preparedness planning efforts. EPA does not require an owner or operator to submit their SPCC Plan but may request the SPCC Plan during a facility inspection or an oil spill incident for review. The SPCC regulation requires the owner or operator to maintain a complete copy of the Plan at the facility if the facility is normally attended at least four hours per day or at the nearest field office if the facility is not so attended. The rule also requires that the Plan be available to the Regional Administrator for on-site review during normal working hours (40 CFR 112.3(e)).

SPCC Plan Preparation. Under section 112.3(a) or (b), the owner or operator of an onshore or offshore facility subject to this section must prepare in writing and implement an SPCC Plan in accordance with section 112.7 and any other applicable sections in the regulation. Section 112.7 requires that the Plan be prepared in accordance with good engineering practices. The section also requires that the Plan have the full approval of management at a level of authority to commit the necessary resources to fully implement the Plan. Specific provisions in this section, among others, require the owner or operator to predict the direction, rate of flow, and total quantity of oil which could be discharged from the facility as result of each type of major equipment failure (section112.7(b)); provide for appropriate containment and/or diversionary structures or equipment to prevent a discharge (section112.7(c)); provide for Professional Engineer (PE) certification or a qualified facility certification (section112.7(d)); and conduct inspections and tests and maintain records (section112.7(e)).

Plan Certification. Under section 112.3(d), a SPCC Plan must be reviewed and certified by a licensed PE for it to be effective to satisfy the requirements except as provided by 40 CFR 112.6, Qualified Facilities Plan Requirements. Under section 112.6, the owner or operator of a qualified facility may self-certify the Plan if the facility meets the eligibility criteria in section 112.3(g).

SPCC Plan Maintenance. Under section 112.5, the owner or operator must complete a review and evaluation of the SPCC Plan at least once every five years. As a result of this review and evaluation, the owner or operator must amend the Plan within six months of the review to include more effective prevention and control technology if the technology has been field-proven at the time of the review and will significantly reduce the likelihood of a discharge of oil.

Recordkeeping. Under section 112.7(e), an owner or operator must conduct inspections and tests and maintain records. The inspections and tests must be conducted in accordance with written procedures the facility or the certifying engineer developed for the facility. The written procedures and a record of the inspections and tests must be signed by the appropriate supervisor or inspector and kept with the SPCC Plan for a period of three years. Records of inspections and tests may be kept under usual and customary business practices.

Form Numbers: None.

Respondents/affected entities: Entities potentially affected by this action are the owners or operators of facilities that are required to have a Spill Prevention, Control, and Countermeasure (SPCC) Plan under the Oil Pollution Prevention regulation (40 CFR part 112). The applicability, definitions, and general requirements for all facilities and all types of oil are located in section 112.1 of the regulations and apply to any owner or operator of a non-transportation-related onshore or offshore facility engaged in drilling, producing, gathering, storing, processing, refining, transferring, distributing, using or consuming oil and oil products, which due to its location, could reasonably be expected to discharge oil into navigable waters or adjoining shorelines in quantities that may be harmful. (See 40 CFR 112.1(a) through (d) for further information about the applicability of the oil pollution prevention regulations.)

Entities potentially affected by this action are in the following industries: Oil and gas extraction, farms, electric utilities, petroleum refining and related industries, chemical manufacturing, food manufacturing, manufacturing facilities using and storing animal fats and vegetable oils, metal manufacturing, real estate rental and leasing, retail and wholesale trade, transportation, petroleum bulk stations and terminals, fuel oil dealers, hospitals and other health care, accommodation and food services, gasoline stations, finance and insurance, mining, warehousing and storage, pipelines, and government and military installations, among others.

Respondent's obligation to respond: Mandatory, pursuant to 40 CFR 112.3(e).

Estimated number of respondents: 541,000 (total). This figure will be updated as needed during the 60-day OMB review period.

Frequency of response: Facilities must prepare and implement an SPCC Plan before beginning operations and review, evaluate and update the SPCC Plan every five years. In the event of certain discharges of oil into navigable waters, a facility owner or operator must submit certain information to the Regional Administrator within 60 days.

Total estimated burden: 6.2 million hours (per year). This figure will be updated as needed during the 60-day OMB review period. Burden is defined at 5 CFR 1320.03(b).

Total estimated cost: $797 million (per year), includes $184 million annualized capital or operation & maintenance costs. These figures will be updated with most recent available wage rates from BLS and to account for any changes in O&M costs, burden and number of respondents.

Changes in Estimates: The above burden estimates are based on the current approved ICR, OMB Control No. 0328.17. In the final notice for the renewal ICR, EPA will publish revised burden estimates based on updates to respondent data and unit costs. Any change in burden will be described and explained in this section when the updated ICR Supporting Statement is completed during the 60-day OMB review period. In this notice, the Agency is requesting comments on the burden and costs estimated in the current ICR. The Agency is also requesting comments on the ICR's characterizations, assumptions, data gaps, etc. that can help the Agency develop more refined and accurate burden estimates.

Dated: August 27, 2019.
Reggie Cheatham,
Director, Office of Emergency Management.

[FR Doc. 2019-19671 Filed 9-10-19; 8:45 am]

BILLING CODE 6560-50-P